DEPARTMENT OF TRANSPORTATION

Federal Railroad Administration

Notice of Finding of No Significant Impact for the Washington State Portion of the Pacific Northwest Rail Corridor Upgrades Tier-1 Environmental Assessment

AGENCY: Federal Railroad Administration (FRA), United States Department of Transportation (DOT).

ACTION: Notice of availability.

SUMMARY: In accordance with the National Environmental Policy Act of 1969 (NEPA) and the FRA's Procedures for Considering Environmental Impacts (FRA Environmental Procedures) (64 FR 28545 (May 26, 1999)), the FRA and the Washington State Department of Transportation (WSDOT) prepared a Tier-1 Environmental Assessment (Tier-1 EA) that evaluates the impacts of a corridor improvements program to the Washington State portion of the Pacific Northwest Rail Corridor (PNWRC Program). This notice advises the public that FRA finds that the corridor improvement program will not have a significant impact on the quality of the human or natural environment and has issued a Finding of No Significant Impact (FONSI) supporting that determination. Copies of both the Tier-1 EA and FONSI are available on FRA's Web site at http://www.fra.dot.gov/rpd/freight/3011.shtml.

FOR FURTHER INFORMATION CONTACT: For further information regarding either the Tier-1 EA or FONSI please contact Melissa DuMond, Environmental Protection Specialist, Federal Railroad Administration, 1200 New Jersey Ave., SE., Stop 20, Washington, DC 20590, telephone: (202) 493-6366.

SUPPLEMENTARY INFORMATION: The purpose of the PNWRC Program in Washington State is to improve intercity passenger rail service by reducing travel times, achieving greater schedule reliability, and creating capacity for additional trip frequencies in order to accommodate growing intercity travel demand. To achieve these goals WSDOT applied for Federal funding through the High Speed Intercity Passenger Rail Program (HSIPR Program) administered by the FRA and funded by the American Recovery and Reinvestment Act (Recovery Act). WSDOT's application under the Recovery Act was split into three Service Blocks, and identified incremental service benefits including increased service levels, improved on-time performance and schedule reliability, and reduced travel times. The FRA intends to provide funding under the HSIPR Program for projects contained in two of the three service blocks.

In order to comply with the requirements of the HSIPR Program Guidance (Interim Guidance) that described the eligibility requirements and procedures for obtaining funding under the HSIPR Program (74 FR 29901 (June 23, 2009)), WSDOT prepared a Tier-1 or “service” NEPA document that included the analysis of two alternatives; the “No Build” and the “Corridor Service Expansion Alternative.” The Tier-1 EA was completed in September 2009 and was made available for comment between October 2, 2009 and October 23, 2009 on the WSDOT Web site. Thirteen agencies submitted written comments. No individual written comments were received.

Based on the analysis in the Tier-1 EA, FRA released a draft FONSI for public comment on July 8, 2010 for a period of 30 calendar days (75 FR 39325 (July 8, 2010)). FRA received six comments on the draft FONSI, including comments from one federal agency, two state agencies, and three local governments. In compliance with NEPA and the FRA's Environmental Procedures, FRA has addressed all comments on the FONSI and has determined that the PNWRC corridor improvements will not have a significant impact on the quality of the human or natural environment. Prior to release of construction funding for individual projects, WSDOT will successfully complete applicable mitigation measures detailed in the FONSI and complete appropriate project-level NEPA evaluations, documentation, and required determinations for the individual project.

Issued in Washington, DC, on November 19, 2010.
Joseph C. Szabo,
Administrator.

[FR Doc. 2010-30021 Filed 11-29-10; 8:45 am]

BILLING CODE 4910-06-P